DEPARTMENT OF COMMERCE

International Trade Administration

[A-580-601, C-580-602]

Top of the Stove Stainless Steel Cooking Ware From the Republic of Korea: Final Results of Sunset Reviews and Revocation of Antidumping and Countervailing Duty Orders

AGENCY: Import Administration, International Trade Administration, Department of Commerce.

SUMMARY: The Department of Commerce (the Department) initiated the third sunset reviews of the antidumping and countervailing duty orders on top of the stove stainless steel cooking ware (cookware) from the Republic of Korea (Korea) pursuant to section 751(c) of the Tariff Act of 1930, as amended (the Act), and 19 CFR 351.218(c). See Initiation of Five-Year (“Sunset”) Review, 75 FR 60731 (October 1, 2010) (Initiation Notice). Because no domestic interested party responded to the sunset review notice of initiation by the applicable deadline, the Department is revoking the antidumping and countervailing duty orders on cookware from Korea.

DATES: Effective Dates: November 17, 2010—Antidumping Duty Order; November 22, 2010—Countervailing Duty Order;

FOR FURTHER INFORMATION CONTACT: Martha Douthit or Dana Mermelstein, AD/CVD Operations, Office 6, Import Administration, International Trade Administration, U.S. Department of Commerce, 14th Street and Constitution Avenue, NW., Washington, DC 20230; telephone: (202) 482-5050 or (202) 482-1391, respectively.

SUPPLEMENTARY INFORMATION:

Scope of the Orders

The merchandise subject to the antidumping and countervailing duty orders on top of the stove stainless steel cooking ware from Korea includes all non-electric cooking ware of stainless steel which may have one or more layers of aluminum, copper or carbon steel for more even heat distribution. The subject merchandise includes skillets, frying pans, omelet pans, saucepans, double boilers, stock pots, dutch ovens, casseroles, steamers, and other stainless steel vessels, all for cooking on stove top burners, except tea kettles and fish poachers. On January 24, 1997, and June 17, 1997, respectively, the Department revoked, in part, these orders with respect to certain merchandise, as a result of changed circumstances reviews. See Certain Stainless Steel Cooking Ware From the Republic of Korea: Final Results of Changed Circumstances Antidumping Duty Administrative Review, and Revocation in Part of Antidumping Duty Order, 62 FR 3662 (January 24, 1997); and Certain Stainless Steel Cooking Ware From the Republic of Korea: Final Results of Changed Circumstances Countervailing Duty Administrative Review, and Revocation in Part of Countervailing Duty Order, 62 FR 32767 (June 17, 1997).

The subject merchandise is currently classifiable under Harmonized Tariff Schedule of the United States (HTSUS) item numbers 7323.93.00 and 9604.00.00. The HTSUS item numbers are provided for convenience and customs purposes only. The written description remains dispositive.

Background

On January 20, 1987, the Department published, in the Federal Register, the antidumping and countervailing duty orders on cookware from Korea. See Antidumping Duty Order; Certain Stainless Steel Cooking Ware From the Republic of Korea, 52 FR 2139 (January 20, 1987); and Countervailing Duty Order; Certain Stainless Steel Cooking Ware From the Republic of Korea, 52 FR 2140 (January 20, 1987). In two subsequent sunset reviews of the antidumping and countervailing duty orders, based on affirmative decisions by the Department and the International Trade Commission, the antidumping and countervailing duty orders on cookware from Korea were continued. See Continuation of Antidumping Duty Orders and Countervailing Duty Orders: Top-of-the-Stove Stainless Steel Cooking Ware From Taiwan and Korea, 65 FR 20801 (April 18, 2000); Top-of-the-Stove Stainless Steel Cooking Ware from the Republic of Korea; Continuation of the Antidumping Duty Order, 70 FR 69739 (November 17, 2005); and Continuation of Countervailing Duty Order: Top-of-the-Stove Stainless Steel Cookware from South Korea, 70 FR 70585 (November 22, 2005).

On October 1, 2010, the Department initiated the current sunset reviews of the antidumping and countervailing duty orders on cookware from Korea, pursuant to section 751(c) of the Act. See Initiation Notice. We received no response to the notice of initiation from the domestic industry by the applicable deadline. See 19 CFR 351.218(d)(1)(i). As a result, the Department has determined that no domestic interested party intends to participate in the sunset reviews. On October 21, 2010 we notified the International Trade Commission, in writing, that we intend to revoke the antidumping and countervailing duty orders on cookware from Korea. See 19 CFR 351.218(d)(1)(iii)(B)(2).

Revocation

Pursuant to section 751(c)(3)(A) of the Act and 19 CFR 351.218(d)(1)(iii)(B)(3) and 19 CFR 351.222(i)(1)(i), if no interested parties respond to a notice of initiation, the Department shall, within 90 days after the initiation of the review, revoke the order. Because no domestic interested party filed a notice of intent to participate in these reviews, the Department finds that no domestic interested party is participating in the reviews. Thus, we are revoking the antidumping and countervailing duty orders on cookware from Korea.

Effective Dates of Revocation

The effective date of revocation of the antidumping duty order is November 17, 2010; the effective date of revocation for the countervailing duty order is November 22, 2010. These dates are the fifth anniversaries of the date of publication in the Federal Register of the most recent notice of continuation of the antidumping and countervailing orders, respectively.

Pursuant to sections 751(c)(3)(A) and 751(c)(6)(A)(iii) of the Act, and 19 CFR 351.222(i)(2)(i), the Department intends to notify U.S. Customs and Border Protection to terminate the suspension of liquidation of the merchandise subject to the antidumping duty and countervailing duty orders entered, or withdrawn from warehouse, for consumption on or after November 17, 2010, and on or after November 22, 2010, respectively.

Entries of subject merchandise prior to the effective dates of revocation will continue to be subject to suspension of liquidation and antidumping duty and countervailing duty cash deposit requirements. The Department will complete any pending administrative reviews of these orders and will conduct administrative reviews of subject merchandise entered prior to the effective dates of revocation in response to appropriately filed requests of review.

These five-year (sunset) reviews and notice are issued and published in accordance with sections 751(c) and 777(i)(1) of the Act.

Dated: December 22, 2010.
Christian Marsh,
Acting Deputy Assistant Secretary for Import Administration.

[FR Doc. 2010-32869 Filed 12-28-10; 8:45 am]

BILLING CODE 3510-DS-P